DEPARTMENT OF COMMERCE

National Oceanic and Atmospheric Administration

[RTID 0648-XE287]

Fisheries of the Exclusive Economic Zone off Alaska; Application for an Exempted Fishing Permit

AGENCY: National Marine Fisheries Service (NMFS), National Oceanic and Atmospheric Administration (NOAA), Commerce.

ACTION: Notice; receipt of application for exempted fishing permit.

SUMMARY: This notice announces NMFS' receipt of an application and the public comment period for an exempted fishing permit (EFP) from Trident Seafoods. If issued, this permit would allow the applicant to develop and test modifications to the footrope of pelagic trawl gear. The purpose and goal of this EFP, if issued, would be to exempt participating vessels from complying with the regulation defining the footrope for pelagic trawl gear. Field testing would be conducted between January 20, 2025 and December 31, 2027, and the EFP would expire at the end of that period. This experiment would test trawl gear design that aims to minimize seafloor contact by the footrope when targeting pollock that are on or near the seafloor and thus promote the objective of the Magnuson-Stevens Fishery Conservation and Management Act (Magnuson-Stevens Act) to protecting habitat that fish need to spawn, breed, feed, and grow to maturity.

DATES: Comments on this EFP application must be submitted to NMFS on or before October 15, 2024. The North Pacific Fishery Management Council (Council) will consider the application at its meeting from September 30, 2024 through October 8, 2024.

ADDRESSES: The Council meeting will be held virtually and in person in Anchorage, AK. The agenda for the Council meeting is available at https://www.npfmc.org. In addition to submitting public comments during the Council meeting through the Council website, you may submit your comments, identified by NOAA-NMFS-2024-0106, by either of the following methods:

• Electronic Submission: Submit all electronic public comments via the Federal e Rulemaking Portal. Go to https://www.regulations.gov and enter [NOAA-NMFS-2024-0106] in the Search box (note: copying and pasting the FDMS Docket Number directly from this document may not yield search results). Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

• Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP application and the basis for a categorical exclusion under the National Environmental Policy Act are available from https://www.regulations.gov or from the NMFS Alaska Region website at https://www.fisheries.noaa.gov/region/alaska.

FOR FURTHER INFORMATION CONTACT: Maggie Chan, 907-586-7228.

SUPPLEMENTARY INFORMATION: NMFS manages the groundfish fisheries in the exclusive economic zone of the Bering Sea and Aleutian Islands (BSAI) under the Fishery Management Plan (FMP) for Groundfish of the BSAI Management Area (BSAI FMP). The Council prepared the BSAI FMP under the authority of the Magnuson-Stevens Fishery Conservation and Management Act, 16 U.S.C. 1801 et seq. Regulations governing the BSAI groundfish fisheries appear at 50 CFR parts 600 and 679. The FMP and the EFP-implementing regulations at § 600.745(b) and § 679.6 allow the NMFS Regional Administrator to authorize, for limited experimental purposes, fishing that would otherwise be prohibited. Procedures for issuing EFPs are contained in the implementing regulations.

Background and Need for Exempted Fishing Permit

As described further below, NMFS has regulatory definitions for a pelagic trawl that specify the allowable numbers of fishing line, footrope, and weighted lines. This regulatory definition limits the ability to test trawl gear redesigns on the footrope and weighted lines.

In 2023, Trident Seafoods began a pilot project aimed at designing modified footrope concepts after consulting with NMFS. This pilot project occurred during the 2023 pollock fishery and underscored the need to expand the pilot project into an EFP. This EFP would help facilitate innovation to reduce impacts to the environment from pelagic trawl fishing and provide transparency in the development of new gear designs. This EFP would build on the 2023 pilot project by expanding testing modified footrope designs during commercial fishing operations. The primary gear modification involves altering the length and orientation of the existing footrope components in a way that maintains sufficient weight to ensure the proper opening (i.e., shape) of the net, while also resulting in less bottom contact. The re-design of the gear results in having more than two weighted lines, but, due to the design of the modified footrope, results in less total bottom contact. The EFP would assess changes to bottom contact and catch (composition and efficiency), gear performance, and fishing operations and safety.

This requested EFP would temporarily exempt fishers from the regulation at § 679.2 “Authorized fishing gear”, paragraph (14)(vii) that states pelagic trawl gear “Has no more than one fishing line and one footrope for a total of no more than two weighted lines on the bottom of the trawl between the wing tip and the fishing circle.” If approved, this EFP would allow testing of trawl gear design concepts that aim to minimize seafloor contact by the trawl gear when targeting pollock that are on or near the seafloor. The EFP would expire on December 31, 2027.

Exempted Fishing Permit

On September 6, 2024, Dr. Noëlle Yochum and Shannon Carroll of Trident Seafoods submitted an application for an EFP to develop and test modifications to the footrope of pelagic trawl gear. The purpose and goal of this proposed EFP is to assess changes to gear performance, catch composition, fishing operations, safety, and costs.

Vessel operators participating in this project would include trawl vessels that deliver catch to shoreside plants or motherships. All vessels will be equipped for pollock fishing in Alaska and will use pelagic pollock trawls. Gear and fishing operations will be conducted in compliance with current management regulations with the exception of the modifications exempted under the EFP.

Vessel operators would continue to adhere to required monitoring and fishery observer requirements. Vessel operators fishing under the EFP will be responsible for providing information to the EFP applicant about gear performance and use, including areas fished and catch information. Fishing under this EFP will not be conducted within any protected or restricted areas that are otherwise closed to pollock fishing under the American Fisheries Act and Community Development Quota programs under current regulations. This project aims to minimize seafloor contact by the trawl gear when targeting pollock that are on or near the seafloor.

Exemptions

One exemption is necessary to conduct this project. An exemption would be necessary from the regulation at § 679.2 “Authorized fishing gear”, paragraph (14)(vii) that states pelagic trawl gear “Has no more than one fishing line and one footrope for a total of no more than two weighted lines on the bottom of the trawl between the wing tip and the fishing circle.”

Permit Conditions, Review, and Effects

If issued, the exempted fishing permit would contain several conditions. Among them, the applicant would be required to submit to NMFS an annual report that includes a summary of the vessels participating, any problems and successes, and how well EFP objectives were accomplished. Within 6 months of the end of EFP fishing, a final report would be submitted to NMFS that updates the interim reports and describes how well EFP objectives were accomplished. The Alaska Fisheries Science Center found no concern with the objectives, scope, or methods described in the EFP. The activities that would be conducted under this EFP involve the development and testing of new and modified trawl fishing gear and technology in order to reduce adverse effects from trawl fishing gear on non-target species, and is limited in size, magnitude, and duration with no potential for significant individual or cumulative impacts, as detailed in the draft categorical exclusion for this action (see ADDRESSES).

In accordance with §§ 679.6 and 600.745, NMFS has determined that the application warrants further consideration and has forwarded the application to the Council to initiate consultation. The Council is scheduled to consider the EFP application during its October 2024 meeting, which will be held in person in Anchorage, AK with an option to participate virtually. The applicant has been invited to speak in support of the application.

Public Comments

Interested persons may comment on the application during the October 2024 Council meeting during public testimony or the Federal eRulemaking Portal (see ADDRESSES) until October 15, 2024, when the comment period ends. Information regarding the meeting is available at the Council's website at https://www.npfmc.org. Copies of the application and categorical exclusion are available for review from NMFS (see ADDRESSES). Comments may also be submitted directly to NMFS (see ADDRESSES) by the end of the comment period (see DATES).

Authority: 16 U.S.C. 1801 et seq.

Dated: September 24, 2024.
Karen H. Abrams,
Acting Director, Office of Sustainable Fisheries, National Marine Fisheries Service.

[FR Doc. 2024-22248 Filed 9-27-24; 8:45 am]

BILLING CODE 3510-22-P